SECURITIES AND EXCHANGE COMMISSION

[Release No. 34-76205; File No. SR-BATS- 2015-90]

Self-Regulatory Organizations; BATS Exchange, Inc.; Notice of Filing and Immediate Effectiveness of a Proposed Rule Change To Amend Rule 11.25, Retail Order Attribution Program

October 21, 2015.

Correction

In notice document 2015-27221, appearing on pages 65828-65830 in the issue of Tuesday, October 27, 2015, make the following correction:

On page 65830, in the second column, in the eighth line from the bottom, “November 16, 2015” should read “November 17, 2015”.

[FR Doc. C1-2015-27221 Filed 11-2-15; 8:45 am]

BILLING CODE 1505-01-D